NUCLEAR REGULATORY COMMISSION

Advisory Committee on Nuclear Waste; Renewal Notice

AGENCY: U.S. Nuclear Regulatory Commission.

ACTION: This notice is to announce the renewal of the Advisory Committee on Nuclear Waste (ACNW) for a period of two years.

SUPPLEMENTARY INFORMATION: The U.S. Nuclear Regulatory Commission (NRC) has determined that the renewal of the charter for the Advisory Committee on Nuclear Waste for the two year period commencing on July 14, 2006, is in the public interest, in connection with duties imposed on the Commission by law. This action is being taken in accordance with the Federal Advisory Committee Act, after consultation with the Committee Management Secretariat, General Services Administration.

The purpose of the Advisory Committee on Nuclear Waste is to report to and advise the Nuclear Regulatory Commission (NRC) on nuclear waste management. The bases of ACNW reviews include 10 CFR parts 20, 40, 50, 60, 61, 63, 70, 71 and 72, and other applicable regulations and legislative mandates. In performing its work, the Committee will examine and report on those areas of concern referred to it by the Commission and may undertake studies and activities on its own initiative, as appropriate. Emphasis will be on protecting the public health and safety in the disposal of nuclear waste and the handling and processing of nuclear materials. The Committee will undertake studies and activities related to nuclear materials and waste management such as transportation, waste determinations, reprocessing, storage and disposal facilities, in situ leaching mining, mill tailings, enrichment facilities, health effects, decommissioning, materials safety, application of risk-informed, performance-based regulations, and evaluation of licensing documents, rules and regulatory guidance. The Committee will interact with representatives of the public, NRC, Advisory Committee on Reactor Safeguards, other Federal agencies, State and local agencies, Indian Tribes, and private, international, and other organizations as appropriate to fulfill its responsibilities.

For Further Information Contact: John T. Larkins, Executive Director of the Committee, U.S. Nuclear Regulatory Commission, Washington, DC 20555, telephone (301) 415-7360.

Dated: July 14, 2006.
Andrew L. Bates,
Federal Advisory Committee, Management Officer.

[FR Doc. E6-11514 Filed 7-19-06; 8:45 am]

BILLING CODE 7590-01-P